FEDERAL COMMUNICATIONS COMMISSION

47 CFR Part 73

[MB Docket No. 22-118; RM-11924; DA-22-252; FR ID 77497]

Television Broadcasting Services Helena, Montana

AGENCY: Federal Communications Commission.

ACTION: Proposed rule.

SUMMARY: The Federal Communications Commission (Commission) has before it a petition for rulemaking filed by Scripps Broadcasting Holdings LLC (Petitioner), the licensee of KTVH-DT, channel 12, Helena, Montana. The Petitioner requests the substitution of channel 31 for channel 12 at Helena in the Table of Allotments.

DATES: Comments must be filed on or before April 21, 2022 and reply comments on or before May 6, 2022.

ADDRESSES: You may submit comments, identified by MB Docket No. 22-118, by any of the following methods:

• Electronic Filers: Comments may be filed electronically using the internet by accessing the ECFS: https://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

In addition to filing comments with the FCC, interested parties should serve counsel for the Petitioner as follows: Christina A. Burrow, Esq., Cooley LLP, 1299 Pennsylvania Avenue NW, Washington, DC 20004-2400.

FOR FURTHER INFORMATION CONTACT: Joyce Bernstein, Media Bureau, at (202) 418-1647 or Joyce.Bernstein@fcc.gov.

SUPPLEMENTARY INFORMATION: This is a synopsis of the Commission's Notice of Proposed Rulemaking, MB Docket No. 22-118; RM-11924; DA 22-252, adopted on March 10, 2022, and released on March 10, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

In support, the Petitioner states that the Commission has recognized that VHF channels have certain characteristics that pose challenges for their use in providing digital television service, including propagation characteristics that allow undesired signals and noise to be receivable at relatively far distances. According to the Petitioner, it has received many complaints from viewers unable to receive a reliable signal on channel 12. The proposed channel 31 contour would continue to reach virtually all of the population within the Station's current service area and fully cover the city of Helena. An analysis using the Commission's TVStudy software tool indicates that KTVH-DT's move from channel 12 to channel 31 is predicted to create an area where 2,168 persons are predicted to lose service. The loss area, however, is partially overlapped by the noise limited contours of other NBC affiliated stations and reduces the number of people who are predicted to lose NBC network service to 226 persons. Taking these other stations into account, less than 500 persons would lose NBC service if KTVH moves to channel 31, which Petitioner argues is de minimis. We note that in its calculation of viewer loss, Scripps relies on the NBC network service provided by Class A television station KDBZ-CD, Bozeman, Montana, as well as low power television (LPTV) station KTGF-LD, Great Falls, Montana, which is the NBC network affiliate in Great Falls. While the LPTV station is secondary and can be displaced, we believe given the rural nature of Montana and neighboring states it is unlikely the LPTV station would be displaced, and if it was, Scripps would easily be able to find a displacement channel for it.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

Pursuant to §§ 1.415 and 1.420 of the Commission's rules, 47 CFR 1.415, 1.420, interested parties may file comments and reply comments on or before the dates indicated on the first page of this document. Comments may be filed using the Commission's Electronic Comment Filing System (ECFS).

List of Subjects in 47 CFR Part 73

Television.

Federal Communications Commission.
Thomas Horan,
Chief of Staff, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under Montana by revising the entry for Helena to read as follows:

§ 73.622 Digital television table of allotments.

* * * * *

(j) * * *

Community | Channel No.
* * * * *
MONTANA
* * * * *
Helena | 29, 31
* * * * *

[FR Doc. 2022-05863 Filed 3-21-22; 8:45 am]

BILLING CODE 6712-01-P